DEPARTMENT OF HEALTH AND HUMAN SERVICES

Health Resources and Services Administration

Agency Information Collection Activities: Proposed Collection: Public Comment Request Information Collection Request Title: Ryan White HIV/AIDS Program (RWHAP) Parts A and B Unobligated Balances and Rebate Addendum Tables, OMB No. 0906-xxxx-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 17, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Ryan White HIV/AIDS Program Parts A and B Unobligated Balances and Rebate Addendum Tables, OMB No. 0906-xxxx-New.

Abstract: HRSA's Ryan White HIV/AIDS Program (RWHAP) funds and coordinates with cities, states and territories, and local clinics/community-based organizations to deliver efficient and effective HIV care, treatment, and support to low-income people diagnosed with HIV. Nearly two-thirds of RWHAP clients live at or below 100 percent of the federal poverty level and approximately three-quarters of RWHAP clients are racial and ethnic minorities. Since 1990, RWHAP has developed a comprehensive system of HIV service providers who deliver high quality direct health care and support services to over half a million people diagnosed with HIV (more than 50 percent of all people diagnosed with HIV in the United States).

Grant recipients funded under Parts A, B, C, and D of RWHAP (codified under Title XXVI of the Public Health Service Act) are required to report financial data to HRSA at the beginning (Allocations Report) and at the end of each grant budget period (Expenditures Report) using the HRSA Electronic Handbooks (EHBs).¹ HRSA RWHAP's Parts A and B collect unobligated balances (UOB) of federal funds and rebate addendum information by subprogram from their grant recipients. Parts A and B use the UOB and rebate addendum financial information to determine formula funding as directed by RWHAP statute. These data were collected when grant recipients submitted their annual Federal Financial Report (FFR SF-425) in hard copy only, and submitted to the individual HHS Operating Divisions (OPDIVs). HRSA combined the FFR SF-425 with the UOB and rebate addendum tables using a suggested format through the HRSA EHBs. This financial information is collected in the same location to streamline the process for the grant recipients. The UOB and rebate addendum data tables will be collected in the HRSA EHBs below the FFR SF-425 control number and the Paperwork Burden Statement.

¹ The Allocations Report and the Expenditures Report were approved by OMB under the 0915-0318 control number.

Need and Proposed Use of the Information: RWHAP Part A and Part B recipients currently complete the UOB and rebate addendum tables in a non-electronic form and upload them as attachments as a part of their FFR SF-425 submission. This new process will decrease administrative burden, increase transparency, and improve the quality of the data submitted to HRSA. UOB and rebate addendum tables are essential for allowing HRSA to ensure that RWHAP recipients are meeting the goal of accountability to Congress, clients, advocacy groups, and the general public. Information provided in the UOB and rebate addendum tables is critical for HRSA, states and territories, local clinics, and individual providers to evaluate the effectiveness of these programs.

Likely Respondents: HRSA RWHAP Parts A and B Recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A UOB Table | 52 | 1 | 52 | 0.5 | 27.0
Part B UOB Table | 59 | 1 | 59 | 0.5 | 29.5
Total | 111 |  | 111 |  | 56.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2019-15367 Filed 7-18-19; 8:45 am]

BILLING CODE 4165-15-P